DEPARTMENT OF HEALTH AND HUMAN SERVICES

Centers for Disease Control and Prevention

Discontinued Publication of Funding Opportunity Announcements

AGENCY: The Centers for Disease Control and Prevention (CDC), Department of Health and Human Services (HHS).

ACTION: Notice of New Procedure.

Important notice regarding: (1) Discontinued publication of Funding Opportunity Announcements (FOAs) in the Federal Register; and (2) FOA announcement and application submission via Grants.gov. CDC announces plans to publish all FOAs on http://www.grants.gov and accept electronic applications through this site. All application packages will be posted on Grants.gov, as well, utilizing the PHS5161-1 forms for non-research applications and the new form SF 424 Research and Related (R&R) application for research. Grants.gov will feed the form 424 (R&R) packages directly into the Health and Human Services electronic Research Administration Commons for on-line receipt of research applications.

As of October 1, 2005, CDC ceased publication of all FOAs in The Federal Register. CDC currently announces these FOAs, also known as Requests for Application (RFAs) and Program Announcements (PAs), via the Grants.gov on-line submission system. Applicants are able to find a synopsis and attachments of the complete text of all CDC grants and cooperative agreements, as well as apply electronically for opportunities, via http://www.Grants.gov. All FOAs will continue to be posted on the CDC Web site (http://www.cdc.gov/od/pgo/funding/FOAs.htm) and on the NIH Guide (http://grants1.nih.gov/grants/guide/index.html), for research.

The provisions of the Federal Financial Assistance Management Improvement Act of 1999 (Public Law 106-107) and the President's Management Agenda have led Federal Agencies to simplify Federal financial assistance application requirements and create a single Web site to apply for Federal assistance. Accordingly, Grants.gov (http://www.grants.gov/) has been designated by the Office of Management and Budget (OMB) as the single access point for all grant programs offered by 26 Federal grant-making agencies. It provides a single interface for agencies to announce their grant opportunities, and for all grant applicants to find and apply for these opportunities.

The PHS-5161-1 application package will be posted in Grants.gov for CDC non-research application submissions. A transition from the PHS Form 398 package to the SF 424 (R&R) forms will allow electronic submission of research applications through Grants.gov.

Getting Started—Grants.gov and HHS eRA Commons Registration

To provide a secure environment, the submission of electronic applications to HHS and CDC will require organizations to register with Grants.gov (http://www.grants.gov/applicants/applicants.jsp), and, in addition, for Research Grants, the applicant will also have to register with HHS eRA Commons (https://commons.era.nih.gov/commons/). Grants.gov registration provides the ability to submit applications electronically to at least 26 Federal grant-making agencies. HHS eRA Commons registration allows tracking of research application status for the potential grantee organization and Principal Investigator.

Additional Information

Questions regarding this notice should be directed to the Technical Information Management Section (TIMS), Procurement and Grants Office, Centers for Disease Control and Prevention, 2920 Brandywine Road, Atlanta, GA 30341, Telephone 770-488-2700, or e-mail address: pgotim@cdc.gov.

Dated: September 26, 2006.
James D. Seligman,
Chief Information Officer, Centers for Disease Control and Prevention.

[FR Doc. E6-16322 Filed 10-4-06; 8:45 am]

BILLING CODE 4163-18-P